DEPARTMENT OF THE INTERIOR

Fish and Wildlife Service

50 CFR Part 10

RIN 1018-AB72

General Provisions; Revised List of Migratory Birds

AGENCY: Fish and Wildlife Service, Interior.

ACTION: Proposed rule; reopening of comment period.

SUMMARY: We, the Fish and Wildlife Service, are reopening the comment period for our proposed rule to revise the list of migratory birds protected by the Migratory Bird Treaty Act (MBTA) to allow interested persons additional time to prepare and submit comments.

DATES: We will consider all comments that we receive on or before December 29, 2006.

ADDRESSES: Submit your comments on this proposal in one of the following ways:

1. By postal mail to Chief, Division of Migratory Bird Management, U.S. Fish and Wildlife Service, 4401 North Fairfax Drive, Mail Stop 4107, Arlington, VA 22203;

2. By hand-delivery to U.S. Fish and Wildlife Service, Division of Migratory Bird Management, 4501 North Fairfax Drive, Room 4000, Arlington, VA 22203. By prior arrangement, materials available for public inspection can also be examined at this location;

3. By fax to (703) 358-2272; or

4. By e-mail to mbtabirdlist@fws.gov; or

5. By the Federal eRulemaking Portal at http://www.regulations.gov.

FOR FURTHER INFORMATION CONTACT: John L. Trapp, (703) 358-1714.

SUPPLEMENTARY INFORMATION: On August 24, 2006, we published in the Federal Register (71 FR 50194-50221) a proposed rule to revise the List of Migratory Birds by adding numerous species and removing numerous species. The proposed rule is available for online viewing or downloading at http://www.fws.gov/migratorybirds/.

Our reasons for proposing changes to the list include correcting previous mistakes, including misspellings; adding species based on new evidence of occurrence in the United States or U.S. territories; removing species no longer known to occur within the United States; and changing names based on new taxonomy. The net increase of 140 species (152 added and 12 removed) would bring to 972 the total number of species protected by the MBTA (16 U.S.C. 703-711).

We regulate most aspects of the taking, possession, transportation, sale, purchase, barter, exportation, and importation of migratory birds. An accurate and up-to-date list of species protected by the MBTA is essential for regulatory purposes.

The comment period for the proposed rule ended October 23, 2006. We are reopening the comment period for an additional 15 days (see DATES) to allow interested persons additional time to prepare and submit comments. We will also consider all comments received between October 24, 2006 (the day after the close of the original comment period) and the date of this notice.

Dated: December 5, 2006.
David M. Verhey,
Acting Assistant Secretary for Fish and Wildlife and Parks.

[FR Doc. E6-21313 Filed 12-13-06; 8:45 am]

BILLING CODE 4310-55-P